DEPARTMENT OF ENERGY

Extension of Public Comment Period Hydrogen Energy California's Integrated Gasification Combined Cycle Project Preliminary Staff Assessment and Draft Environmental Impact Statement; Correction

AGENCY: U.S. Department of Energy.

ACTION: Extension of public comment period; notice of public hearing; correction.

SUMMARY: On Monday, August 26, 2013, the Department of Energy (DOE) published a Notice of Extension of Public Comment Period and Public Hearing for the Hydrogen Energy California's Integrated Gasification Combined Cycle Project Preliminary Staff Assessment and Draft Environmental Impact Statement. This document corrects several typographical errors.

Corrections

In the Federal Register on Monday, August 26, 2013, in FR Doc. 2013-20713, on page 52764, the following corrections are made:

(1) In SUMMARY, sixth line, “extening” is corrected to read “extending.”

(2) In DATES, third paragraph, first line, “OE” is corrected to read “DOE.”

(3) In FOR FURTHER INFORMATION CONTACT, twelfth line, “DOE” is corrected to read “DOE's.”

Dated: August 29, 2013.
Mark J. Matarrese,
Director, Office of Environment, Security, Safety & Health, Office of Fossil Energy.

[FR Doc. 2013-21588 Filed 9-4-13; 8:45 am]

BILLING CODE 6450-01-P